DEPARTMENT OF TRANSPORTATION

Maritime Administration

[Docket No. MARAD-2000-6905]

Information Collection Available for Public Comments and Recommendations

ACTION: Notice and request for comments.

SUMMARY: In accordance with the Paperwork Reduction Act of 1995, this notice announces the Maritime Administration's (MARAD) intentions to request approval for three years of an existing information collection titled “Monthly Report of Ocean Shipments Moving Under Export-Import Bank Financing.”

DATES: Comments should be submitted on or before April 17, 2000.

FOR FURTHER INFORMATION CONTACT: Thomas W. Harrelson, Office of Cargo Preference, Maritime Administration, 400 Seventh Street, SW, Room 8118, Washington, D.C. 20590, telephone number—202-366-4610. Copies of this collection can also be obtained from that office.

SUPPLEMENTARY INFORMATION:

Title of Collection: Monthly Report of Ocean Shipments Moving Under Export-Import Bank Financing.

Type of Request: Approval of an existing information collection.

OMB Control Number: 2133-0013.

Form Number: MA-518.

Expiration Date of Approval: Three years from the date of approval.

Summary of Collection of Information: Title 46 App. U.S.C. 1241-1, Public Resolution 17, 73rd Congress (PR 17), requires MARAD to monitor and enforce the U.S.-flag shipping requirements relative to the loans/guarantees extended by the Export-Import Bank (Eximbank) to foreign borrowers. PR 17 requires that shipments financed by Eximbank and that move by sea, must be transported exclusively on U.S.-flag registered vessels unless a waiver is obtained from MARAD.

Need and Use of the Information: The prescribed monthly report is necessary for MARAD to fulfill its responsibilities under PR 17, to ensure compliance of ocean shipping requirements operating under Eximbank financing, and to ensure equitable distribution of shipments between U.S.-flag and foreign ships. MARAD will use this information to report annually to Congress the total shipping activities during the calendar year.

Description of Respondents: Shippers subject to Eximbank financing requirements.

Annual Responses: 336 responses.

Annual Burden: 168 hours.

Comments: Comments should refer to the docket number that appears at the top of this document. Written comments may be submitted to the Docket Clerk, U.S. DOT Dockets, Room PL-401, 400 Seventh Street, SW, Washington, D.C. 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m., et. Monday through Friday, except Federal Holidays. An electronic version of this document is available on the World Wide Web at http://dms.dot.gov.

By Order of the Maritime Administrator.
Dated: February 10, 2000.
Joel C. Richard,
Secretary.

[FR Doc. 00-3525 Filed 2-14-00; 8:45 am]

BILLING CODE 4915-81-P